ENVIRONMENTAL PROTECTION AGENCY

[EPA-R10-OAR-2017-0516; FRL-9976-07-OEI]

Information Collection Request Submitted to OMB for Review and Approval; Comment Request; Federal Implementation Plans Under the Clean Air Act for Indian Reservations in Idaho, Oregon and Washington (Renewal)

AGENCY: Environmental Protection Agency (EPA).

ACTION: Notice.

SUMMARY: The Environmental Protection Agency (EPA) has submitted an information collection request (ICR), “Federal Implementation Plans under the Clean Air Act for Indian Reservations in Idaho, Oregon and Washington (EPA ICR No. 2020.07, OMB Control No. 2060-0558) to the Office of Management and Budget (OMB) for review and approval in accordance with the Paperwork Reduction Act. This is a proposed extension of the ICR, which is currently approved through March 31, 2018. Public comments were previously requested via the Federal Register 82 FR 44177 on September 21, 2017 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 30, 2018.

ADDRESSES: Submit your comments, referencing Docket ID Number EPA-R10-OAR-2017-0516, to (1) EPA online using www.regulations.gov (our preferred method), by email to R10-Public_Comments@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Andra Bosneag, Office of Air and Waste, Environmental Protection Agency Region 10, 1200 Sixth Ave. Seattle, WA 98101; telephone number: (206) 553-1226; fax number: (206) 553-0110; email address: bosneag.andra@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA promulgated Federal Implementation Plans (FIPs) under the Clean Air Act for Indian reservations located in Idaho, Oregon, and Washington in 40 CFR part 49 (70 FR 18074, April 8, 2005). The FIPs in the final rule, also referred to as the Federal Air Rules for Indian Reservations in Idaho, Oregon, and Washington (FARR), include information collection requirements associated with the partial delegation of administrative authority to a Tribe in § 49.122; the rule for limiting visible emissions at § 49.124; fugitive particulate matter rule in § 49.126, the wood waste burner rule in § 49.127; the rule for limiting sulfur in fuels in § 49.130; the rule for open burning in § 49.131; the rules for general open burning permits, agricultural burning permits, and forestry and silvicultural burning permits in §§ 49.132, 49.133, and 49.134; the rule for emissions detrimental to human health and welfare in § 49.135; the registration rule in § 49.138; and the rule for non-Title V operating permits in § 49.139. EPA uses this information to manage the activities and sources of air pollution on the Indian reservations in Idaho, Oregon, and Washington. These information collection requirements enable EPA to develop and maintain accurate records of air pollution sources and their emissions, track emissions trends and changes, identify potential air quality problems, allow EPA to issue permits or approvals, and ensure appropriate records are available to verify compliance with these FIPs. Regulated entities can assert claims of business confidentiality and EPA will address these claims in accordance with the provisions of 40 CFR part 2, subpart B.

Form Numbers:

EPA Form 7630-1 Nez Perce Reservation Air Quality Permit: Agricultural Burn

EPA Form 7630-2 Nez Perce Reservation Air Quality Permit: Forestry Burn

EPA Form 7630-3 Nez Perce Reservation Air Quality Permit: Large Open Burn

EPA Form 7630-4 Initial or Annual Source Registration

EPA Form 7630-5 Report of Change of Ownership

EPA Form 7630-6 Report of Closure

EPA Form 7630-7 Report of Relocation

EPA Form 7630-9 Non-Title V Operating Permit Application Form

EPA Form 7630-10 Umatilla Indian Reservation: Agricultural Burn Permit Application

EPA Form 7630-11 Umatilla Indian Reservation: Forestry Burn Permit Application

EPA Form 7630-12 Umatilla Indian Reservation Large Open Burn Permit Application

The forms listed above are available for review in the EPA docket.

Respondents/affected entities: Respondents or affected entities potentially affected by this action include owners and operators of emission sources in all industry groups and tribal governments, located in the identified Indian reservations. Categories and entities potentially affected by this action are included in the docketed supporting documents.

Respondent's obligation to respond: Respondents obligation to respond is mandatory. See 40 CFR 49.122, 49.124, 49.126, 49.130-135, 49.138, and 49.139.

Estimated number of respondents: 1,658 (total).

Frequency of response: Annual or on occasion.

Total estimated burden: 4,215 hours (per year). Burden is defined at 5 CFR 1320.03(b).

Total estimated cost: $313,301 (per year), includes $0 annualized capital or operation & maintenance costs.

Changes in estimates: There is a decrease of 854 hours in the total estimated respondent burden compared with the ICR currently approved by OMB. The decrease in the burden estimate for this collection is based on input from source consultations, supersedence of the provisions of one rule (49.139), and information we have learned about the source universe through implementing the rules since the ICR was updated in 2015.

Courtney Kerwin,
Director, Regulatory Support Division.

[FR Doc. 2018-06428 Filed 3-29-18; 8:45 am]

BILLING CODE 6560-50-P